DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico, Waste Management (WM) and Environmental Monitoring, Surveillance and Remediation (EMSR) Committees. The Federal Advisory Committee Act (Pub. L. No. 92-463, 86 Stat. 770) requires that public notice of this meeting be announced in the Federal Register.

DATES: Wednesday, August 12, 2009, 2 p.m.-4 p.m.

ADDRESSES: Northern New Mexico Citizens' Advisory Board Office, Conference Room, 1660 Old Pecos Trail, Suite B, Santa Fe, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE in the areas of environmental restoration, waste management, and related activities.

Tentative Agenda

2 p.m. Welcome and Introductions

WM Committee/EMSR Committee Administrative Issues.

• Discussion and Approval of August 12, 2009 Committee Agenda.

• Discussion and Approval of July 15, 2009 EMSR Committee Minutes.

• Discussion and Approval of July 22, 2009 WM Committee Minutes.

Continue Fiscal Year 2010 Committee Work Plan Development.

• WM Committee—Gerry Maestas, WM Committee Chair.

• EMSR Committee—Mike Loya, EMSR Committee Chair.

Discuss Status of Draft Recommendations.

3:40 p.m. Public Comment Period.

4 p.m. Adjournment.

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Menice Santistevan at the address or phone number listed above. Minutes and other Board documents are on the Internet at: http://www.nnmcab.org/.

Issued at Washington, DC on July 17, 2009.
Rachel Samuel,
Deputy Committee Management Officer.

[FR Doc. E9-17383 Filed 7-21-09; 8:45 am]

BILLING CODE 6450-01-P